FEDERAL COMMUNICATIONS COMMISSION

Notice of Public Information Collection(s) Being Reviewed by the Federal Communications Commission, Comments Requested

March 2, 2005.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 9, 2005. If you anticipate that you will be submitting comments, but find it difficult to do so within the period of time allowed by this notice, you should advise the contact listed below as soon as possible.

ADDRESSES: Direct all comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Accounting and Separations Information from Incumbent Local Exchange Carriers that Receive Interstate Access Revenues on a Cost Basis.

Form No.: N/A.

Type of Review: New collection.

Respondents: Business or other for-profit; Not-for-profit institutions.

Number of Respondents: 900.

Estimated Time per Response: 20 hours.

Frequency of Response: One time reporting requirement.

Total Annual Burden: 18,000 hours.

Total Annual Cost: N/A.

Privacy Act Impact Assessment: N/A.

Needs and Uses: This is a one-time data collection designed to assist the Commission in evaluating whether to modify its rules pertaining to jurisdictional separations, specifically, the Part 36 category relationships and jurisdictional cost allocation factors. Jurisdictional separations are the process by which incumbent local exchange carriers apportion regulated costs between the intrastate and interstate jurisdictions. In 2001, the Commission adopted the recommendation of the Federal-State Joint Board on Separations and took action to freeze, on an interim basis, the Part 36 jurisdictional separations rules, in order to stabilize and simplify the separations process while the Commission continued to work on comprehensive separations reform. Specifically, the Commission froze all of the Part 36 category relationships and allocation factors for price cap carriers, and froze all allocation factors for rate-of-return carriers. This freeze was to last for five years or until the Commission completed comprehensive separations reform, whichever came first. The freeze is scheduled to lapse on June 30, 2006.

The requested data is necessary to enable the Federal-State Joint Board on Separations and the Commission to determine whether to extend the separations freeze, and, if not, whether and how to modify the jurisdictional separations process. To assist the Federal-State Joint Board on Separations and the Commission in this regard, carriers will be requested to identify and explain the way in which specific categories of costs and revenues are recorded for accounting and jurisdictional purposes. Among other things, the data will allow the Federal-State Joint Board and the Commission to study the impact of the Internet and the growth in local minutes during the interim freeze.

Federal Communications Commission.
Marlene H. Dortch,
Secretary.

[FR Doc. 05-4724 Filed 3-9-05; 8:45 am]

BILLING CODE 6712-01-P